DEPARTMENT OF TRANSPORTATION

Federal Aviation Administration

[Policy Statement No. ANE-2000-33.94-R0]

Policy for Use of Structural Dynamic Analysis Methods for Blade Containment and Rotor Unbalance Tests

AGENCY: Federal Aviation Administration, DOT.

ACTION: Notice of proposed policy statement; request for comments.

SUMMARY: The Federal Aviation Administration (FAA) announces the availability of a proposed policy for evaluating the use of structural dynamic analysis methods for blade containment and rotor unbalance tests.

DATES: Comments must be received by February 9, 2001.

ADDRESSES: Send all comments on the proposed policy to the individual identified under FOR FURTHER INFORMATION CONTACT.

FOR FURTHER INFORMATION CONTACT: Jay Turnberg, FAA, Engine and Propeller Standards Staff, ANE-110, 12 New England Executive Park, Burlington, MA 01803; e-mail: <jay.turnberg@faa.gov>; telephone: (781) 238-7116; fax: (781) 238-7199.

SUPPLEMENTARY INFORMATION:

Comments Invited

The proposed policy statement is available on the Internet at the following address: If you do not have access to the Internet, you may request a copy by contacting the individual listed under FOR FURTHER INFORMATION CONTACT. The FAA invites interested parties to comment on the proposed policy. Comments should identify the subject of the proposed policy and be submitted to the individual identified under FOR FURTHER INFORMATION CONTACT. The FAA will consider all comments received by the closing date before issuing the final policy.

Background

Engine manufacturers are developing and using various types of structural dynamic analysis methods to support both engine certification activities and aircraft manufacturers' certification activities. The FAA has developed this proposed policy to provide guidance for evaluating the use of structural dynamic analysis methods to show compliance with the requirements of § 33.94 of Title 14 of the Code of Federal Regulations, “Blade containment and rotor unbalance tests.” This proposed policy would specifically address paragraph (a) of § 33.94 for engine design and configuration changes.

Authority: 49 U.S.C. 106(g), 40113, 44701-44702, 44704.

Issued in Burlington, Massachusetts, on January 2, 2001.
David A. Downey,
Assistant Manager, Engine and Propeller Directorate, Aircraft Certification Service

[FR Doc. 01-703 Filed 1-9-01; 8:45 am]

BILLING CODE 4910-13-P